DEPARTMENT OF THE TREASURY

Office of Foreign Assets Control

Notice of OFAC Sanctions Action

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them. OFAC is additionally updating the identifying information of two persons currently included in the SDN List.

DATES: This action was issued on October 31, 2024. See SUPPLEMENTARY INFORMATION for relevant dates.

FOR FURTHER INFORMATION CONTACT: OFAC: Associate Director for Global Targeting, 202-622-2420; or Assistant Director for Sanctions Compliance, 202-622-2490 or https://ofac.treasury.gov/contact-ofac.

SUPPLEMENTARY INFORMATION:

Electronic Availability

The SDN List and additional information concerning OFAC sanctions programs are available on OFAC's website: https://ofac.treasury.gov.

Notice of OFAC Action

On October 31, 2024, OFAC determined that the persons identified below meet one or more of the criteria for the imposition of sanctions set forth in section 1(a)-(c) of Executive Order 14059 of December 15, 2021, “Imposing Sanctions on Foreign Persons Involved in the Global Illicit Drug Trade,” 86 FR 71549 (December 17, 2021) (E.O. 14059). OFAC has selected to impose blocking sanctions pursuant to section 2(a)(i) of E.O. 14059 on the persons identified below.

Individuals

1. CARRASCO LEYVA, Josefa Yadira (a.k.a. “LA WERA”; a.k.a. “LA WERA PALENQUE”), Mexico; DOB 14 Nov 1978; POB Chihuahua, Mexico; nationality Mexico; Gender Female; C.U.R.P. CALJ781114MCHRYS03 (Mexico) (individual) [ILLICIT-DRUGS-EO14059].

Designated pursuant to section (1)(a)(i) of Executive Order 14059 of December 15, 2021, “Imposing Sanctions on Foreign Persons Involved in the Global Illicit Drug Trade,” 86 FR 71549 (December 17, 2021) (E.O. 14059) for having engaged in, or attempted to engage in, activities or transactions that have materially contributed to, or pose a significant risk of contributing to, the international proliferation of illicit drugs or their means of production.

2. NIETO FIERRO, Heber (a.k.a. “EVER NIETO”), Mexico; DOB 28 Sep 1975; POB Chihuahua, Mexico; nationality Mexico; Gender Male; C.U.R.P. NIFH750928HCHTRB04 (Mexico) (individual) [ILLICIT-DRUGS-EO14059].

Designated pursuant to section (1)(a)(i) of E.O. 14059 for having engaged in, or attempted to engage in, activities or transactions that have materially contributed to, or pose a significant risk of contributing to, the international proliferation or illicit drugs or their means of production.

3. ORTEGA GALLEGOS, Jorge Adrian (a.k.a. “EL NARANJAS”; a.k.a. “NARANJAS”), Mexico; DOB 07 Jul 1983; POB Chihuahua, Mexico; nationality Mexico; Gender Male; C.U.R.P. OEGJ830707HCHRLR00 (Mexico) (individual) [ILLICIT-DRUGS-EO14059].

Designated pursuant to section (1)(a)(i) of E.O. 14059 for having engaged in, or attempted to engage in, activities or transactions that have materially contributed to, or pose a significant risk of contributing to, the international proliferation or illicit drugs or their means of production.

4. AGUAYO, Adrian (a.k.a. “Adrian AGUAYO SALAS”; a.k.a. “LA ROBERTA”; a.k.a. “ROBERTA”), Chihuahua, Mexico; DOB 29 Jul 1980; POB Chihuahua, Mexico; nationality Mexico; Gender Male; C.U.R.P. AUXA800729HCHGXD02 (Mexico) (individual) [ILLICIT-DRUGS-EO14059].

Designated pursuant to section (1)(a)(i) of E.O. 14059 for having engaged in, or attempted to engage in, activities or transactions that have materially contributed to, or pose a significant risk of contributing to, the international proliferation or illicit drugs or their means of production.

5. SALAS AGUAYO, Jesus (a.k.a. “CHUY”; a.k.a. “CHUYIN”; a.k.a. “EL CHUYIN”), Mexico; DOB 29 May 1976; POB Chihuahua, Mexico; nationality Mexico; Gender Male; C.U.R.P. SAAJ760529HCHLGS03 (Mexico) (individual) [ILLICIT-DRUGS-EO14059].

Designated pursuant to section (1)(a)(i) of E.O. 14059 for having engaged in, or attempted to engage in, activities or transactions that have materially contributed to, or pose a significant risk of contributing to, the international proliferation or illicit drugs or their means of production.

Entities

1. R.Y H. EL REMATE, SOCIEDAD ANONIMA DE CAPITAL VARIABLE, Chihuahua, Mexico; Organization Established Date 13 Sep 2007; Organization Type: Real estate activities on a fee or contract basis; Folio Mercantil No. 23967 (Mexico) [ILLICIT-DRUGS-EO14059].

Designated pursuant to section (1)(b)(iii) of E.O. 14059 for being owned, controlled, or directed by, or having acted or purported to act for or on behalf of, directly or indirectly, Heber Nieto Fierro, a person sanctioned pursuant to E.O. 14059.

2. SOLUCIONES TECNOLOGICAS Y PAQUETERIA TRES, SOCIEDAD ANONIMA DE CAPITAL VARIABLE, Zapopan, Jalisco, Mexico; Organization Established Date 21 Nov 2023; Organization Type: Transportation and storage; Folio Mercantil No. N-2023100783 (Mexico) [ILLICIT-DRUGS-EO14059].

Designated pursuant to section (1)(b)(iii) of E.O. 14059 for being owned, controlled, or directed by, or having acted or purported to act for or on behalf of, directly or indirectly, Heber Nieto Fierro, a person sanctioned pursuant to E.O. 14059.

On October 31, 2024 OFAC updated the entries on the SDN List for the following persons, whose property and interests in property subject to U.S. jurisdiction continue to be blocked under the relevant sanctions authorities listed below.

Entities

1. TOTAL LOOK (a.k.a. “OUTLET_TLOOK”; f.k.a. “TOTAL_LOOKCLN”), Culiacan, Sinaloa, Mexico; website www.totallook.mx; Organization Type: Retail sale of clothing, footwear and leather articles in specialized stores [ILLICIT-DRUGS-EO14059] (Linked To: ROBLEDO ARREDONDO, Adilene Mayre).

The listing for the entity now appears as follows:

TOTAL LOOK (a.k.a. “OUTLET_TLOOK”; a.k.a. “OUTLETTLOOK”; f.k.a. “TOTAL_LOOKCLN”), Culiacan, Sinaloa, Mexico; website www.totallook.mx; Organization Type: Retail sale of clothing, footwear and leather articles in specialized stores [ILLICIT-DRUGS-EO14059] (Linked To: ROBLEDO ARREDONDO, Adilene Mayre).

2. MUNSA INTERNATIONAL INVESMENTS S.A., Panama City, Panama; RUC #155608664-2-2015 (Panama) [SDNTK].

The listing for the entity now appears as follows:

MUNSA INTERNATIONAL INVESMENTS S.A., Panama City, Panama; RUC #931597-1-521773 (Panama) [SDNTK].

Lisa M. Palluconi,
Acting Director, Office of Foreign Assets Control.

[FR Doc. 2024-25710 Filed 11-4-24; 8:45 am]

BILLING CODE 4810-AL-P